DEPARTMENT OF ENERGY

Federal Energy Regulatory Commission

[Project No. 10856-115]

UP Hydro, LLC; Notice of Effectiveness of Withdrawal of Application for Surrender of License

On July 17, 2020, UP Hydro, LLC filed an application for surrender of license for the 0.9-megawatt Au Train Hydroelectric Project No. 10856. On June 18, 2024, UP Hydro, LLC filed a notice of withdrawal of its application.

No motion in opposition to the notice of withdrawal has been filed, and the Commission has taken no action to disallow the withdrawal. Pursuant to Rule 216(b) of the Commission's Rules of Practice and Procedure,¹ the withdrawal of the application became effective on July 3, 2024, and this proceeding is hereby terminated.

¹ 18 CFR 385.216(b) (2023).

Dated: July 8, 2024.
Debbie-Anne A. Reese,
Acting Secretary.

[FR Doc. 2024-15364 Filed 7-11-24; 8:45 am]

BILLING CODE 6717-01-P